DEPARTMENT OF ENERGY

Federal Energy Regulatory Commission

[Docket No. CP19-191-000]

Notice of Application; Texas Eastern Transmission, LP

Take notice that on April 18, 2019, Texas Eastern Transmission, LP (Texas Eastern), 5400 Westheimer Court, Houston, Texas 77056-5310, filed in Docket No. CP19-191-000 an application pursuant to sections 7(b) and 7(c) of the Natural Gas Act (NGA) and Part 157 of the Commission's regulations for authorization to construct its proposed Bernville Compressor Units Replacement Project (Project). The Project consists of replacing two existing compressor units and related facilities, with two new, more efficient compressor units at its Bernville Compressor Station located in Berks County, Pennsylvania. Texas Eastern asserts that the Project will allow this portion of its system to comply with future air emission reduction requirements in Pennsylvania.

Specifically, Texas Eastern is requesting authorization to replace two existing General Electric Company Frame 5 centrifugal natural gas-fired turbines consisting of one 22,000 horsepower (hp) unit installed in 1958, and one 19,800 hp unit installed in 1968, with a total station certificated horsepower of 41,800 hp. Texas Eastern proposes to replace these two existing units with one new 26,000 hp Solar Turbine, Inc. (Solar) Titan 250 natural gas-fired turbine and one new 18,100 hp Solar Titan 130 natural gas-fired turbine. Texas Eastern states that it will install software controls on the 26,000 hp Solar Titan 250 turbine to limit the horsepower on that turbine to 23,700 hp, so that the total designed horsepower and delivery capacity at the Bernville Compressor Station will remain substantially the same. Texas Eastern estimates the cost of the Project to be $125,443,261, all as more fully set forth in the application which is on file with the Commission and open to public inspection.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Lisa A. Connolly, Director, Rates and Certificates, Texas Eastern Transmission, LP, P.O. Box 1642, Houston, Texas 77251-1642, by telephone at (713) 627-4102, by facsimile at (713) 627-5947, or by email at lisa.connolly@enbridge.com.

Pursuant to section 157.9 of the Commission's rules (18 CFR 157.9), within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made with the Commission and must provide a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list and will be notified of any meetings associated with the Commission's environmental review process. Environmental commentors will not be required to serve copies of filed documents on all other parties. However, the non-party commentors will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy regulatory Commission, 888 First Street, NE, Washington, DC 20426.

Comment Date: 5:00 p.m. Eastern Time on May 21, 2019.

Dated: April 30, 2019.
Kimberly D. Bose,
Secretary.

[FR Doc. 2019-09295 Filed 5-6-19; 8:45 am]

BILLING CODE 6717-01-P